DEPARTMENT OF COMMERCE

International Trade Administration

[C-570-074]

Common Alloy Aluminum Sheet From the People's Republic of China: Preliminary Results and Partial Rescission of Countervailing Duty Administrative Review; 2023

AGENCY: Enforcement and Compliance, International Trade Administration, Department of Commerce.

SUMMARY: The U.S. Department of Commerce (Commerce) preliminarily determines that countervailable subsidies were provided to producers and exporters of common alloy aluminum sheet (aluminum sheet) from the People's Republic of China (China), during the period of review January 1, 2023, through December 31, 2023. In addition, Commerce is rescinding this review, in part, with respect to one company. Interested parties are invited to comment on these preliminary results.

DATES: Applicable June 12, 2025.

FOR FURTHER INFORMATION CONTACT: Amber Hodak or Theodora Mattei, AD/CVD Operations, Office VI, Enforcement and Compliance, International Trade Administration, U.S. Department of Commerce, 1401 Constitution Avenue NW, Washington, DC 20230; telephone: (202) 482-8034 and (202) 482-4834, respectively.

SUPPLEMENTARY INFORMATION:

Background

On February 6, 2019, Commerce published in the Federal Register the countervailing duty (CVD) order on aluminum sheet from China.¹ On April 9, 2024, based on timely requests for review, Commerce initiated this administrative review of the Order on aluminum sheet from China.² On July 22, 2024, Commerce tolled deadlines in this administrative proceedings by seven days.³ On October 23, 2024, we extended the time limit for these preliminary results by 104 days, to February 19, 2025.⁴ On December 9, 2024, Commerce tolled certain deadlines in this administrative proceeding by an additional 90 days.⁵ On April 25, 2025, Commerce further extended the time period for using these preliminary results by an additional 16 days.⁶ The deadline for the preliminary results is now June 5, 2025.

¹ See Common Alloy Aluminum Sheet from the People's Republic of China: Countervailing Duty Order, 84 FR 2157 (February 6, 2019) (Order).

² See Initiation of Antidumping and Countervailing Duty Administrative Reviews, 89 FR 24780, 24797 (April 9, 2024) (Initiation Notice).

³ See Memorandum, “Tolling of Deadlines for Antidumping and Countervailing Duty Proceedings,” dated July 22, 2024.

⁴ See Memorandum, “Extension of Deadline for Preliminary Results of Countervailing Duty Administrative Review,” dated October 23, 2024.

⁵ See Memorandum, “Tolling Deadlines for Antidumping and Countervailing Duty Proceedings,” dated December 9, 2024.

⁶ See Memorandum, “Extension of Deadline for Preliminary Results of Countervailing Duty Administrative Review,” dated April 25, 2025.

On April 24, 2024, Commerce selected Henan Mingtai Al. Industrial Co., Ltd. (Henan Mingtai Al.) a mandatory respondent in this review.⁷ On June 17, 2024, Commerce selected an additional mandatory respondent, Yinbang Clad Material Co., Ltd. (Yinbang).⁸

⁷ See Memorandum, “Respondent Selection,” dated April 24, 2024.

⁸ See Memorandum, “Selection of Additional Mandatory Respondent for Individual Examination,” dated June 17, 2024.

For a complete description of the events that followed the initiation of this review, see the Preliminary Decision Memorandum.⁹ A list of topics included in the Preliminary Decision Memorandum is provided as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁹ See Memorandum, “Decision Memorandum for the Preliminary Results of the Administrative Review of the Countervailing Duty Order on Common Alloy Aluminum Sheet from the People's Republic of China; 2023” dated concurrently with, and hereby adopted by, this notice (Preliminary Decision Memorandum).

Scope of the Order

The merchandise covered by the Order is aluminum sheet from China. For a complete description of the scope of the Order, see the Preliminary Decision Memorandum.¹⁰

¹⁰ Id.

Partial Rescission of Administrative Review

Pursuant to 19 CFR 351.213(d)(3), Commerce will rescind an administrative review when there are no reviewable suspended entries. Based on our analysis of U.S. Customs and Border Protection (CBP) information, we preliminarily determine that Alcha International Holdings Limited (Alcha International) and Jiangsu Alcha Aluminium Co., Ltd. (Jiangsu Alcha) (collectively, Alcha Group) ¹¹ had no entries of subject merchandise during the POR. On October 18, 2024, we notified parties that we intended to rescind this administrative review with respect to the two companies which have no reviewable suspended entries.¹² No parties commented on the notification of intent to rescind the review, in part. We are, therefore, now rescinding the administrative review of these companies which have no reviewable suspended entries. For further information, see the Preliminary Decision Memorandum the at “Partial Rescission of Administrative Review” section.

¹¹ In previous administrative reviews, Commerce found Jiangsu Alcha Aluminium Co., Ltd. to be cross-owned with Baotou Alcha Aluminium Co., Ltd. and Jiangsu Alcha New Energy Materials Co., Ltd. Commerce also cumulated the benefits from subsidies received by Alcha International Holdings Limited with the benefits from subsidies received by Jiangsu Alcha Aluminium Co., Ltd. in accordance with 19 CFR 351.525(c). Jiangsu Alcha Aluminium Group Co., Ltd. is the current legal name of the company; this name is used interchangeably with Jiangsu Alcha Aluminum Group Co., Ltd. Therefore, Jiangsu Alcha Aluminum Group Co., Ltd. and Jiangsu Alcha Aluminium Group Co., Ltd. refer to the same entity. Jiangsu Alcha Aluminum Group Co., Ltd. and Jiangsu Alcha Aluminium Group Co., Ltd are also known as Jiangsu Alcha Aluminum Co., Ltd. and Jiangsu Alcha Aluminium Co., Ltd; we recognize all of these company names as the same entity. Further, the legal name for one of Jiangsu Alcha's subsidiaries is “Baotou Alcha Aluminium Co., Ltd.,” but other names (i.e., “Baotou Alcha Aluminum Co., Ltd.,” “Baotou Alcha North Aluminum Co., Ltd.,” and “Baotou Changlv Northern Aluminium Industry Co., Ltd.”) also refer to the same entity due to different English translations of its Chinese-language name. Accordingly, we have treated “Baotou Alcha Aluminium Co., Ltd.,” “Baotou Alcha Aluminum Co., Ltd.,” “Baotou Alcha North Aluminum Co., Ltd.,” and “Baotou Changlv Northern Aluminium Industry Co., Ltd.” as one entity (Baotou Alcha). Thus, we are recognizing the name variations for Jiangsu Alcha Aluminium Co., Ltd. See Common Alloy Aluminum Sheet from the People's Republic of China: Preliminary Results of Countervailing Duty Administrative Review and Rescission of Review, in Part; 2022, 89 FR 15819 (March 5, 2024), and accompanying Preliminary Decision Memorandum (PDM), unchanged in Common Alloy Aluminum Sheet from the People's Republic of China: Final Results of Countervailing Duty Administrative Review; 2022, 89 FR 71881 (September 4, 2024), and accompanying Issues and Decision Memorandum (IDM).

¹² See Memorandum, “Notice of Intent to Rescind Review, In Part,” dated October 18, 2024.

Methodology

Commerce is conducting this administrative review in accordance with 751(a)(1)(A) of the Tariff Act of 1930, as amended (the Act). For each of the subsidy programs found countervailable, Commerce preliminarily determines that there is a subsidy, i.e., a financial contribution by an “authority” that gives rise to a benefit to the recipient, and that the subsidy is specific.¹³ For a full description of the methodology underlying our conclusions, including our reliance, in part, on facts otherwise available with adverse inferences pursuant to sections 776(a) and (b) of the Act, see the Preliminary Decision Memorandum.

¹³ See sections 771(5)(B) and (D) of the Act regarding financial contribution; section 771(5)(E) of the Act regarding benefit; and section 771(5A) of the Act regarding specificity.

In accordance with 19 CFR 351.221(b)(4)(i), Commerce calculated a countervailable subsidy rate for the mandatory respondents that are identified below. We determined the countervailable subsidy rate for Henan Mingtai Al. and its cross-owned affiliates, Henan Gongdian Thermal Co., Ltd. and Zhengzhou Mingtai Industry, Co., Ltd., based entirely on facts available with adverse inferences, in accordance with sections 776(a) and 776(b) of the Act.¹⁴

¹⁴ In previous segments of the proceeding on aluminum sheet from China, Henan Mingtai Al. Industrial Co., Ltd. was referred under several variations of the name such as: (1) Henan Mingtai Industrial Co., Ltd.; (2) Henan Mingtai Aluminum Industrial Co., Ltd., and (3) Henan Mingtai Al. Industrial Co. Ltd. For these preliminary results, we are considering these name variations as the same company (i.e., Henan Mingtai Al. Industrial Co., Ltd.) See Memorandum, “Company Name Clarification,” dated March 3, 2025. In addition, Commerce previously found Henan Gongdian Thermal Co., Ltd. to be cross-owned with Henan Mingtai Al. Industrial Co., Ltd. and Zhengzhou Mingtai Industry, Co., Ltd. Therefore, Henan Mingtai Al. Industrial Co., Ltd., Zhengzhou Mingtai Industry, Co. Ltd., and Henan Gongdian Thermal Co., Ltd. will receive the same total subsidy rate. See Common Alloy Aluminum Sheet from the People's Republic of China: Preliminary Affirmative Countervailing Duty (CVD) Determination, Alignment of Final CVD Determination with Final Antidumping Duty Determination, and Preliminary CVD Determination of Critical Circumstances, 83 FR 17651 (April 23, 2018), and accompanying PDM at 10-11, unchanged in Countervailing Duty Investigation of Common Alloy Aluminum Sheet from the People's Republic of China: Final Affirmative Determination, 83 FR 57427 (November 15, 2018), and accompanying IDM at 5.

Preliminary Results of Review

Commerce preliminarily determines that the following net countervailable subsidy rates exist for the period, January 1, 2023, through December 31, 2023:

Company | Subsidy rate (percent ad valorem)
Yinbang Clad Material Co., Ltd | 9.45
Henan Mingtai Al. Industrial Co., Ltd. (also known as Henan Mingtai Industrial Co., Ltd. and Henan Mingtai Aluminum Industrial Co., Ltd.); Henan Gongdian Thermal Co., Ltd.; and Zhengzhou Mingtai Industry, Co., Ltd | 238.22

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹⁵ Rebuttal briefs, limited to issues raised in the case briefs, may be filed not later than five days after the date for filing case briefs.¹⁶ Interested parties who submit case briefs or rebuttal briefs in this proceeding must submit: (1) a table of contents listing each issue; and (2) a table of authorities.¹⁷ All briefs must be filed electronically using ACCESS. An electronically filed document must be received successfully in its entirety in ACCESS by 5:00 p.m. Eastern Time on the established deadline.

¹⁵ See 19 CFR 351.309.

¹⁶ See 19 CFR 351.309(d); see also Administrative Protective Order, Service, and Other Procedures in Antidumping and Countervailing Duty Proceedings, 88 FR 67069, 67077 (September 29, 2023) (APO and Service Procedures).

¹⁷ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁸ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Procedures.

Pursuant to 19 CFR 351.310(c), interested parties who wish to request a hearing must submit a written request to the Assistant Secretary for Enforcement and Compliance, filed electronically via ACCESS by 5:00 p.m. Eastern Time within 30 days after the date of publication of this notice. Requests should contain: (1) the party's name, address, and telephone number; (2) the number of participants and whether any participants are foreign nationals; and (3) a list of issues to be discussed. Oral presentations at the hearing will be limited to issues raised in the briefs. If a request for a hearing is made, Commerce will inform parties of the scheduled date for the hearing.²⁰

²⁰ See 19 CFR 351.310(d).

Assessment Rates

Consistent with section 751(a)(1) of the Act and 19 CFR 351.212(b)(2), upon issuance of the final results, Commerce shall determine, and U.S. Customs and Border Protection (CBP) shall assess, countervailing duties on all appropriate entries covered by this review.

For the companies listed above for which the review is being rescinded, Commerce will instruct CBP to assess countervailing duties on all appropriate entries at a rate equal to the cash deposit of estimated countervailing duties required at the time of entry, or withdrawal from warehouse, for consumption, during the period January 1, 2023, through December 31, 2023, in accordance with 19 CFR 351.212(c)(1)(i). Commerce intends to issue rescission instructions to CBP no earlier than 35 days after the date of publication of this notice in the Federal Register.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

Pursuant to section 751(a)(2)(C) of the Act, Commerce intends to instruct CBP to collect cash deposits of estimated countervailing duties in the amount indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Final Results

Unless the deadline is extended, we intend to issue the final results of this administrative review, which will include our analysis of the issues raised in the case briefs, within 120 days after the date of publication of these preliminary results in the Federal Register, pursuant to section 751(a)(3)(A) of the Act and 19 CFR 351.213(h).

Notification to Interested Parties

These preliminary results are issued and published pursuant to sections 751(a)(1) and 777(i)(1) of the Act, and 19 CFR 351.221(b)(4).

Dated: June 5, 2025.
Christopher Abbott,
Deputy Assistant Secretary for Policy and Negotiations performing the non-exclusive functions and duties of the Assistant Secretary for Enforcement and Compliance.

Appendix

List of Topics Discussed in the Preliminary Decision Memorandum

I. Summary

II. Background

III. Scope of the Order

IV. Diversification of China's Economy

V. Use of Facts Otherwise Available and Application of Adverse Inferences

VI. Subsidies Valuation

VII. Interest Rate Benchmarks, Discount Rates, and Benchmarks for Measuring Adequacy of Remuneration

VIII. Analysis of Programs

IX. Recommendation

[FR Doc. 2025-10651 Filed 6-11-25; 8:45 am]

BILLING CODE 3510-DS-P